DEPARTMENT OF TRANSPORTATION

Federal Aviation Administration

[Policy Statement No. ANM-113-04-032]

Certification of In-Seat Video Systems

AGENCY: Federal Aviation Administration (FAA), DOT.

ACTION: Notice of proposed policy; request for comments.

SUMMARY: The Federal Aviation Administration (FAA) announces the availability of proposed policy on Certification of In-seat Video Systems.

DATES: Send your comments on or before January 3, 2005.

ADDRESSES: Address your comments to the individual identified under FOR FURTHER INFORMATION CONTACT.

FOR FURTHER INFORMATION CONTACT: John Piccola, Federal Aviation Administration, Transport Airplane Directorate, Transport Standards Staff, Standardization Branch, ANM-113, 1601 Lind Avenue SW., Renton, WA 98055-4056; telephone (425) 227-1509; fax (425) 227-1232; e-mail: john.piccola@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-113-04-032.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

Based on data industry has presented to the FAA, in-seat video system designs have matured to the point that dedicated testing would not be required per 14 CFR 25.601. Industry may use design review as a method of compliance to show that the system is non-hazardous. This policy recommends analysis as an added method of compliance, in lieu of test, and should clarify questions that have arisen regarding previously released policy on this subject.

Issued in Renton, Washington, on November 10, 2004.
Ali Bahrami,
Manager, Transport Airplane Directorate, Aircraft Certification Service.

[FR Doc. 04-25886 Filed 12-2-04; 8:45 am]

BILLING CODE 4910-13-M